DEPARTMENT OF COMMERCE

National Oceanic and Atmospheric Administration

[I.D.022800E]

North Pacific Fishery Management Council; Public Meeting

AGENCY: National Marine Fisheries Service (NMFS), National Oceanic and Atmospheric Administration (NOAA), Commerce.

ACTION: Notice of committee meeting.

SUMMARY: The North Pacific Fishery Management Council's (NPFMC) Halibut Charter Individual Fishing Quota (IFQ) Committee will meet in Anchorage, AK.

DATES: The meeting will be held on March 22-23, 2000.

ADDRESSES: The meeting will be held at the Clarion Suites, 325 W. 8th Avenue, Anchorage, AK.

Council address: North Pacific Fishery Management Council, 605 W. 4th Ave., Suite 306, Anchorage, AK 99501-2252.

FOR FURTHER INFORMATION CONTACT: Jane DiCosimo, NPFMC, 907-271-2809.

SUPPLEMENTARY INFORMATION: The meeting will begin at 1:00 p.m. on Wednesday, March 22, and continue through Thursday, March 23. This will be the first meeting of the newly-appointed committee. The committee's charge is to begin development of preliminary elements and options for a potential IFQ program for Alaskan halibut charter fisheries. The committee will report its progress to the NPFMC in April.

Although non-emergency issues not contained in this agenda may come before this committee for discussion, in accordance with the Magnuson-Stevens Fishery Conservation and Management Act, those issues may not be the subject of formal action during this meeting. Action will be restricted to those issues specifically identified in this notice and any issues arising after publication of this notice that require emergency action under section 305(c) of the Magnuson-Stevens Act, provided the public has been notified of the committee's intent to take final action to address the emergency.

Special Accommodations

These meetings are physically accessible to people with disabilities. Requests for sign language interpretation or other auxiliary aids should be directed to Helen Allen, 907-271-2809, at least 5 working days prior to the meeting date.

Dated: February 29, 2000.
Bruce C. Morehead,
Acting Director, Office of Sustainable Fisheries, National Marine Fisheries Service.

[FR Doc. 00-5519 Filed 3-6-00; 8:45 am]

BILLING CODE 3510-22-F